COMMODITY FUTURES TRADING COMMISSION

Market Risk Advisory Committee

AGENCY: Commodity Futures Trading Commission.

ACTION: Notice of meeting.

SUMMARY: The Commodity Futures Trading Commission (CFTC) announces that on April 9, 2024, from 9:30 a.m. to 12:30 p.m. (Eastern Daylight Time), the Market Risk Advisory Committee (MRAC or Committee) will hold an in-person public meeting at the CFTC's Washington, DC. headquarters, with options for the public to attend virtually. At this meeting, the MRAC will discuss current topics and developments in the areas of central counterparty risk and governance, market structure, climate-related risk, and innovative and emerging technologies affecting the derivatives and related financial markets.

DATES: The meeting will be held on April 9, 2024, from 9:30 a.m. to 12:30 p.m. (Eastern Daylight Time). Please note that the meeting may end early if the MRAC has completed its business. Members of the public who wish to submit written statements in connection with the meeting should submit them by April 16, 2024.

ADDRESSES: The meeting will take place in the Conference Center at the CFTC's headquarters, Three Lafayette Centre, 1155 21st Street NW, Washington, DC 20581. You may submit public comments, identified by “Market Risk Advisory Committee,” through the CFTC website at https://comments.cftc.gov. Follow the instructions for submitting comments through the Comments Online process on the website. If you are unable to submit comments online, contact Tamika Bent, Designated Federal Officer, via the contact information listed below to discuss alternate means of submitting your comments. Any statements submitted in connection with the committee meeting will be made available to the public, including publication on the CFTC website, https://www.cftc.gov.

FOR FURTHER INFORMATION CONTACT: Tamika Bent, MRAC Designated Federal Officer, Commodity Futures Trading Commission, Three Lafayette Centre, 1155 21st Street NW, Washington, DC 20581; (646) 746-3930 or tbent@cftc.gov.

SUPPLEMENTARY INFORMATION: The meeting will be open to the public with seating on a first-come, first-served basis. Members of the public may also listen to the meeting by telephone by calling a domestic or international toll or toll-free number to connect to a live, listen-only audio feed. Call-in participants should be prepared to provide their first name, last name, and affiliation.

Domestic Toll-Free Number:

833 435 1820 U.S.

833 568 8864 U.S.

Domestic Toll Number:

+1 669 254 5252 U.S. (San Jose)

+1 646 828 7666 U.S. (New York)

+1 646 964 1167 U.S. (US Spanish Line)

+1 415 449 4000 U.S. (U.S. Spanish Line)

+1 551 285 1373 U.S. (New Jersey)

+1 669 216 1590 U.S. (San Jose)

International numbers available: https://cftc-gov.zoomgov.com/u/abBIfl8GgU

International Toll- and Toll-Free Numbers: Will be posted on the CFTC's website, https://www.cftc.gov, on the page for the meeting, under Related Links.

Call-In/Webinar ID: 161 499 4644

Pass Code/Pin Code: 627311

Members of the public may also view a live webcast of the meeting via the https://www.cftc.gov website. The meeting agenda may change to accommodate other Committee priorities. For agenda updates, please visit: https://www.cftc.gov/About/AdvisoryCommittees/MRAC.

After the meeting, a transcript of the meeting will be published through a link on the CFTC's website, https://www.cftc.gov. Persons requiring special accommodations to attend the meeting because of a disability should notify the contact person above.

(Authority: 5 U.S.C. 1009(a)(2).)

Dated: February 22, 2024.
Christopher Kirkpatrick,
Secretary of the Commission.

[FR Doc. 2024-04070 Filed 2-27-24; 8:45 am]

BILLING CODE 6351-01-P